FEDERAL COMMUNICATIONS COMMISSION

47 CFR Part 73

[DA 03-1538; MB Docket No. 03-42, RM-10648; MB Docket No. 03-30, RM-10644; MB Docket No. 03-29, RM-10643; MM Docket No. 03-43, RM-10649]

Radio Broadcasting Services; Daisy, AR; Muldrow, OK; Rattan, OK and Trona, CA

AGENCY: Federal Communications Commission.

ACTION: Final rule.

SUMMARY: This document grants four proposals that allot new FM channels to Daisy, Arkansas; Trona, California; Muldrow, Oklahoma; and Rattan, Oklahoma. The Audio Division, at the request of Gray Media Corporation, allots Channel 293C3 at Daisy, Arkansas, as the community's first local aural transmission service. See 68 FR 10682, March 6, 2003. Channel 293C3 can be allotted to Daisy, Arkansas, in compliance with the Commission's minimum distance separation requirements with a site restriction of 21.1 km (13.1 miles) northwest of Daisy. The coordinates for Channel 293C3 at Daisy, Arkansas, are 34-21-49 North Latitude and 93-54-48 West Longitude. A filing window for Channel 293C3 at Daisy, Arkansas, will not be opened at this time. Instead, the issue of opening this allotment for auction will be addressed by the Commission in a subsequent Order. See SUPPLEMENTARY INFORMATION infra.

DATES: Effective June 23, 2003.

FOR FURTHER INFORMATION CONTACT: Deborah Dupont, Media Bureau, (202) 418-2180.

SUPPLEMENTARY INFORMATION: This is a synopsis of the Commission's Report and Order, MB Docket Nos. 03-42, 03-30, 03-29, and 03-43, adopted May 7, 2003, and released May 9, 2003. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

The Audio Division further allots, at the request of Dana J. Puopolos, Channel 255A at Trona, California, as the community's first local aural transmission FM service. See 68 FR 7962, February 19, 2003. Channel 255A can be allotted to Trona, California, in compliance with the Commission's minimum distance separation requirements with a site restriction of 6.8 km (4.2 miles) southeast of Trona. The coordinates for Channel 255A at Trona, California, are 35-43-51 North Latitude and 117-18-28 West Longitude. A filing window for Channel 255A at Trona, California, will not be opened at this time. Instead, the issue of opening this allotment for auction will be addressed by the Commission in a subsequent Order.

The Audio Division further allots, at the request of David P. Garland, Channel 286A at Muldrow, Oklahoma, as the community's first local aural transmission service. See 68 FR 7962, February 19, 2003. Channel 286A can be allotted to Muldrow, Oklahoma, in compliance with the Commission's minimum distance separation requirements with a site restriction of 10.02 km (6.52 miles) north of Muldrow. The coordinates for Channel 286A at Muldrow, Oklahoma, are 35-29-47 North Latitude and 94-36-04 West Longitude. A filing window for Channel 286A at Muldrow, Oklahoma, will not be opened at this time. Instead, the issue of opening this allotment for auction will be addressed by the Commission in a subsequent Order.

The Audio Division further allots, at the request of Gray Media Corporation, Channel 258A at Rattan, Oklahoma, as the community's first local aural transmission service. See 68 FR 10682, March 6, 2003. Channel 258A can be allotted to Rattan, Oklahoma, in compliance with the Commission's minimum distance separation requirements with a site restriction of 7.6 km (4.7 miles) south of Rattan. The coordinates for Channel 258A at Rattan, Oklahoma, are 34-07-58 North Latitude and 95-23-57 West Longitude. A filing window for Channel 258A at Rattan, Oklahoma, will not be opened at this time. Instead, the issue of opening this allotment for auction will be addressed by the Commission in a subsequent Order.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Arkansas, is amended by adding Daisy, Channel 293C3.

3. Section 73.202(b), the Table of FM Allotments under California, is amended by adding Trona, Channel 255A.

4. Section 73.202(b), the Table of FM Allotments under Oklahoma, is amended by adding Muldrow, Channel 286A, and Rattan, Channel 258A.

Federal Communications Commission.
John A. Karousos,
Assistant Chief, Audio Division, Media Bureau.

[FR Doc. 03-13072 Filed 5-23-03; 8:45 am]

BILLING CODE 6712-01-P